DEPARTMENT OF TRANSPORTATION

Coast Guard

33 CFR Part 100

[CGD08-01-012]

RIN 2115-AE46

Marine Events and Regattas; Annual Marine Events in the Eighth Coast Guard District

AGENCY: Coast Guard, DOT.

ACTION: Notice of proposed rulemaking.

SUMMARY: The Coast Guard proposes to establish and modify various annually recurring marine events throughout the Eighth Coast Guard District. This action is necessary to provide for the safety of life on navigable waters during the events. This action is intended to control vessel traffic in portions of the waterways of the Eighth Coast Guard District in conjunction with these marine events.

DATES: Comments and related material must reach the Coast Guard on or before October 17, 2001.

ADDRESSES: You may mail comments and related material to Commander (dl), Eighth Coast Guard District, 501 Magazine Street, New Orleans, Louisiana 70130-3396. The Eighth Coast Guard District legal office maintains the public docket for this rulemaking. Comments and material received from the public, as well as documents indicated in this preamble as being available in the docket, will become part of this docket and will be available for inspection or copying at room 1311, Hale Boggs Federal Building, New Orleans, Louisiana, between 8 a.m. and 3 p.m., Monday through Friday, except Federal holidays.

FOR FURTHER INFORMATION CONTACT: Lieutenant Commander David Nichols, Eighth Coast Guard District Legal Office, (504) 589-6188.

SUPPLEMENTARY INFORMATION:

Regulatory History

Annual marine events in the Eighth Coast Guard District are listed in Table 1 of 33 CFR § 100.801. This part provides the regulations that apply to all marine events listed in Table 1. Occasionally, these regulations require updating and/or modification.

Request for Comments

We encourage you to participate in this rulemaking by submitting comments and related material. If you do so, please include your name and address, identify the docket number for this rulemaking (CGD08-01-012), indicate the specific section of this document to which each comment applies, and give the reason for each comment. Please submit all comments and related material in an unbound format, no larger than 8½ by 11 inches, suitable for copying. If you would like to know that your comments and material reached us, please enclose a stamped, self-addressed postcard or envelope. We will consider all comments and material received during the comment period. We may change this proposed rule in view of them.

Public Meeting

We do not now plan to hold a public meeting. But you may submit a request for a meeting by writing to Eighth Coast Guard District legal office at the address under ADDRESSES explaining why one would be beneficial. If we determine that one would aid this rulemaking, we will hold one at a time and place announced by a later notice in the Federal Register.

Discussion of Proposed Rule

This proposed regulation would establish six annually recurring marine events and change the regulated areas of two established annually recurring marine events. This proposed rulemaking is necessary to ensure the safety of life on the navigable waters of the United States and to give the marine community the opportunity to comment on these events. The events being added or amended are as follows:

Independence Day Fireworks, Mobile, AL

The Coast Guard proposes to establish an annual marine event on the Mobile River. The regulated area will be from the shore of the east bank out 500 feet into the Mobile River between latitudes 30 degrees 41 minutes 20 seconds North and 30 degrees 41 minutes 15 seconds North. The Mobile Register will sponsor the one-day event that will occur on the 4th of July.

Blue Angels Air Show, Pensacola, FL

The Coast Guard proposes to establish an annual marine event off the Pensacola Beach on the Gulf of Mexico. The regulated area will be a five nautical mile radius from a center point located 1,500 feet from the Pensacola Beach water tower in a direction perpendicular to the beachfront. Naval Air Station Pensacola, Florida will sponsor the two-day event that will occur on the 2nd weekend in July.

Fort-to-Fort Swim, Pensacola, FL

The Coast Guard proposes to establish an annual marine event in the Gulf Intracoastal Waterway at Pensacola, Florida. The regulated area will be from the Fort Pickens pier to Barrancas Beach, crossing the Gulf Intracoastal Waterway at statute mile 180 between buoys 13, 14, 15, and 16. The one-day event will occur on the 1st weekend in August.

Keesler Air Force Base Air Show, Biloxi, MS

The Coast Guard proposes to establish an annual marine event in Back Bay, Biloxi, Mississippi. The regulated area will be bounded by the following coordinates: (1) Latitude 30 degrees, 24 minutes, 36 seconds North, longitude 088 degrees, 56 minutes, 00 seconds West; (2) latitude 30 degrees, 25 minutes, 30 seconds North, longitude 088 degrees, 55 minutes, 20 seconds West; (3) latitude 30 degrees, 25 minutes, 10 seconds North, longitude 088 degrees, 54 minutes, 55 seconds West. Keesler Air Force Base, Biloxi, Mississippi, will sponsor the two-day event that will occur on the 1st weekend in November.

Annual Krewe of Billy Bowlegs Pirate Festival, Okaloosa County, FL

The Coast Guard proposes to establish an annual marine event in Santa Rosa Sound. The regulated area will be Santa Rosa Sound, east of the Brooks Bridge to Fort Walton Yacht Club at Smack Point on the western end of Choctowatchee Bay and Cinco Bayou. The Krewe of Billy Bowlegs of Okaloosa County, Inc. will sponsor the two-day event that will occur on the 1st weekend in June.

East-West Powerboat Shootout, Corpus Christi, TX

The Coast Guard proposes to establish an annual marine event in Corpus Christi Bay adjacent to the Corpus Christi downtown area. The regulated area will be bounded by the following coordinates: (1) Latitude 27 degrees, 49 minutes, 24 seconds North, longitude 097 degrees, 23 minutes, 00 seconds West; (2) latitude 27 degrees, 49 minutes, 24 seconds North, longitude 097 degrees, 21 minutes, 22 seconds West; (3) latitude 27 degrees, 45 minutes, 00 seconds North, longitude 097 degrees, 23 minutes, 00 seconds West; (4) latitude 27 degrees, 45 minutes, 00 seconds North, longitude 097 degrees, 21 minutes, 22 seconds West. EM Marketing Company, Inc. and the Corpus Christi Offshore Racing Association will sponsor the two-day event that will occur on the 1st or 2nd weekend in June.

Rubber Ducky Derby, Beaumont, TX

The Coast Guard proposes to establish an annual marine event on the Neches River from the Trinity Industries Dry Dock to the northeast corner of the Port of Beaumont's dock number 5. C P Rehabilitation Center will sponsor the event which will occur on the 2nd, 3rd, and 4th Saturday in April.

Port Arthur Fourth of July Firework Demonstration, Port Arthur, TX

The Coast Guard proposes to establish an annual marine event on the waters of the Sabine-Neches Canal from Wilson Middle School to the northern terminus of Old Golf Course Road. The event is sponsored by the City of Port Arthur and Lamar State College and will occur on the Fourth of July.

Neches River Festival, Beaumont, TX [Amended]

The Coast Guard proposes to change the effective date for this annual event.

Amend the Date to read “two days beginning on the 2nd, 3rd, or 4th weekend in April.”

Annual Labor Day Fireworks [Amended]

The Coast Guard proposes to change the regulated area for this annual event.

Amend Regulated Area to read “Destin East Pass between and including buoys 5 to 11, Destin, FL”.

Independence Day Fireworks, Destin, FL [Amended]

The Coast Guard proposes to change the regulated area for this annual event.

Amend Regulated Area to read “Destin East Pass between and including buoys 5 to 11, Destin, FL”.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this proposed rule to be so minimal that a full Regulatory Evaluation under paragraph 10e of the regulatory policies and procedures of DOT is unnecessary.

Although these proposed marine events will restrict vessel traffic from transiting certain areas of Eighth Coast Guard District waters, the effect of this regulation will not be significant due to the limited duration that the regulated areas will be in effect and the advance notification that will be made to the maritime community through the Federal Register. These proposed regulations have been narrowly tailored to impose the least impact on maritime interests yet provide the level of safety deemed necessary.

Collection of Information

This proposed rule would call for no new collection of information under the Paperwork Reduction Act of 1995 (44 U.S.C. 3501-3520.).

Federalism

We have analyzed this proposed rule under E.O. 13132 and have determined that this rule does not have implications for federalism under that Order.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. These marine events would not have a significant economic impact on a substantial number of small entities for the following reasons. These events occur only once per year and are only a short duration, usually several hours. Additionally, traffic would be allowed to pass through the affected area with the permission of the Captain of the Port or Coast Guard patrol commander.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant Commander David Nichols, Eighth Coast Guard District legal office, (504) 589-6188.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environmental

We have considered the environmental impact of this proposed rule and concluded that, under figure 2-1, paragraph 34(h), of Commandant Instruction M16475.1D, this proposed rule is categorically excluded from further environmental documentation. This proposed rule fits paragraph 34(h) as it establishes and/or amends annual marine event regulations. A “Categorical Exclusion Determination” is available in the docket where indicated under ADDRESSES.

Indian Tribal Governments

This proposed rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 100

Marine safety, Navigation (water), Reporting and recordkeeping requirements, Waterways.

For the reasons discussed in the preamble, the Coast Guard proposes to amend 33 CFR Part 100 as follows:

PART 100—REGATTAS AND MARINE PARADES

1. The authority citation for Part 100 continues to read as follows:

Authority: 33 U.S.C. 1233 through 1236; 49 CFR 1.46; 33 CFR 100.35.

2. Amend Table 1 of § 100.801 by as follows:

a. The seven “Groups” identified in Table 1 are designated as I through VII, respectively, as set out below;

b. Add new unit VIII Marine Safety Office Port Arthur as set out below;

c. At the end of newly designated unit IV, add the entries for Independence Day Fireworks, Mobile, AL; Blue Angels Air Show, Pensacola, FL; Fort-to-Fort Swim, Pensacola, FL; Keesler Air Force Base Air Show, Biloxi, MS; and Annual Krewe of Billy Bowlegs Pirate Festival, Okaloosa County, FL as set out below;

d. At the end of newly designated unit VII, add the entry for East-West Powerboat Shootout, Corpus Christi, TX as set out below;

e. In newly designated unit IV, revise the entries for Annual Labor Day Fireworks and Independence Day Fireworks, Destin, FL as set out below;

f. In newly designated unit VI, revise the entry for Neches River Festival, Beaumont, TX as set out below.

g. In the new unit VIII, add the entries Rubber Ducky Derby, Beaumont, TX, and Port Arthur Fourth of July Firework Demonstration, Port Arthur, TX as set out below.

§ 100.801 Annual Marine Events in the Eighth Coast Guard District.

* * * * *

Table 1 of § 100.801
I. Group Upper Mississippi River:
* * * * * * *
II. Group Ohio Valley:
* * * * * * *
III. Group Lower Mississippi River:
* * * * * * *
IV. Group Mobile:
* * * * * * *
Annual Labor Day Fireworks
Sponsor: City of Destin, FL
Date: 1 Day—Day of or Day before Labor Day
Regulated Area: Destin East Pass between and including buoys 5 to 11, Destin, FL
* * * * * * *
Independence Day Fireworks, Destin, FL
Sponsor: City of Destin, FL
Date: 1 Day—4th of July
Regulated Area: Destin East Pass between and including buoys 5 to 11, Destin, FL
* * * * * * *
Independence Day Fireworks, Mobile, AL
Sponsor: The Mobile Register
Date: 1 Day—4th of July
Regulated Area: From the shore of the east bank out 500 feet into the Mobile River between latitudes 30 degrees 41 minutes 20 seconds North and 30 degrees 41 minutes 15 seconds North
Blue Angels Air Show, Pensacola, FL
Sponsor: Naval Air Station Pensacola, FL
Date: 2 Days—2nd weekend in July
Regulated Area: A five nautical mile radius from a center point located 1,500 feet from the Pensacola Beach water tower in a direction perpendicular to the beachfront
Fort-to-Fort Swim, Pensacola, FL
Sponsor: Naval Air Station Pensacola, FL
Date: 1 Day—1st weekend in August
Regulated Area: Fort Pickens pier to Barrancas Beach, crossing the Gulf Intracoastal Waterway at statute mile 180 between buoys 13, 14, 15, and 16
Keesler Air Force Base Air Show, Biloxi, MS
Sponsor: Keesler Air Force Base, Biloxi, MS
Date: 2 Days—1st weekend in November
Regulated Area: Bounded by the following coordinates: (1) Latitude 30 degrees, 24 minutes, 36 seconds North, longitude 088 degrees, 56 minutes, 00 seconds West; (2) latitude 30 degrees, 25 minutes, 30 seconds North, longitude 088 degrees, 55 minutes, 20 seconds West; (3) latitude 30 degrees, 25 minutes, 10 seconds North, longitude 088 degrees, 54 minutes, 55 seconds West
Annual Krewe of Billy Bowlegs Pirate Festival, Okaloosa County, FL
Sponsor: The Krewe of Billy Bowlegs of Okaloosa County, Inc.
Date: 2 Days—1st weekend in June
Regulated Area: Santa Rosa Sound, east of the Brooks Bridge to Fort Walton Yacht Club at Smack Point on the western end of Choctowatchee Bay and Cinco Bayou
* * * * * * *
V. Group New Orleans:
* * * * * * *
VI. Group Galveston:
Neches River Festival, Beaumont, TX
Sponsor: Neches River Festival, Inc.
Date: 2 Days—2nd, 3rd, or 4th Weekend in April
Regulated Area: Neches River from Collier's Ferry Landing to Lawson's Crossing at the end of Pine St., Beaumont, TX
* * * * * * *
VII. Group Corpus Christi:
* * * * * * *
East-West Powerboat Shootout, Corpus Christi, TX
Sponsor: EM Marketing Company, Inc. and the Corpus Christi Offshore Racing Association
Date: 2 Days—1st or 2nd weekend in June
Regulated Area: Bounded by the following coordinates: (1) Latitude 27 degrees, 49 minutes, 24 seconds North, longitude 097 degrees, 23 minutes, 00 seconds West; (2) latitude 27 degrees, 49 minutes, 24 seconds North, longitude 097 degrees, 21 minutes, 22 seconds West; (3) latitude 27 degrees, 45 minutes, 00 seconds North, longitude 097 degrees, 23 minutes, 00 seconds West; (4) latitude 27 degrees, 45 minutes, 00 seconds North, longitude 097 degrees, 21 minutes, 22 seconds West
VIII. Marine Safety Office Port Arthur:
Rubber Ducky Derby, Beaumont, TX
Sponsor: C P Rehabilitation Center
Date: 1 Day—2nd, 3rd, or 4th Saturday in April
Regulated Area: All waters of the Neches River, bank to bank, from the Trinity Industries Dry Dock to the northeast corner of the Port of Beaumont's dock number 5
Port Arthur Fourth of July Firework Demonstration, Port Arthur, TX
Sponsor: The City of Port Arthur and Lamar State College
Date: 1 Day—4th of July
Regulated Area: All waters of the Sabine-Neches Canal, bank to bank, from Wilson Middle School to the northern terminus of Old Golf Course Road

Dated: August 27, 2001.
Roy J. Casto,
Rear Admiral, U.S. Coast Guard, Commander, Eighth Coast Guard District.

[FR Doc. 01-22812 Filed 9-14-01; 8:45 am]

BILLING CODE 4910-15-U